DEPARTMENT OF JUSTICE

Notice of Lodging of Proposed Consent Decree Under the Clean Water Act

On May 2, 2018, the Department of Justice lodged a proposed Consent Decree with the United States District Court for the Middle District of Louisiana in the lawsuit entitled United States of America v. WCC Energy Group, LLC and Sammy Garrard, Civil Action No. 3:18-cv-00515-JWD-EWD.

The Complaint in this Clean Water Act case was filed against WCC Energy Group, LLC and Sammy Garrard concurrently with the lodging of the proposed Consent Decree. The Complaint alleges that WCC and Mr. Garrard are civilly liable for violations of Section 311 of the Clean Water Act (“CWA”), 33 U.S.C. 1321. The Complaint seeks civil penalties and injunctive relief for two discharges of oil into navigable waters of the United States from an oil production facility in the Frog Lake Area of the Atchafalaya River Basin.

The Complaint alleges that the spills occurred in August 2017. The first spill involved oil discharged from a portion of the facility's transfer line. The second spill was caused by oil leaking off the deck of the facility's production barge into the surrounding water, resulting in a sheen. WCC is an owner and operator of the facility. Mr. Garrard, the facility manager at the time of the spills, was an operator and person-in-charge.

Under the proposed Consent Decree each defendant will pay a civil penalty and perform corrective measures. WCC will pay a civil penalty of $55,000. Mr. Garrard will pay a civil penalty of $2,000 based on assessment of his limited financial ability to pay. The Consent Decree also requires WCC to perform corrective measures at its Frog Lake facility, including notifying the Coast Guard in advance of oil transfer operations, discontinuing the storage of oily waste at the facility, maintaining flow meter gauges and installing pressure gauges to ensure against oil losses along the transfer line, performing periodic inspections of the facility, and submitting reports on progress and compliance. The Consent Decree further requires Mr. Garrard to notify the Coast Guard of his work in the oil and gas industry over the next year.

The Publication of this notice opens a period for public comment on the proposed Consent Decree. Comments should be addressed to the Acting Assistant Attorney General, Environment and Natural Resources Division, and should refer to United States of America v. WCC Energy Group, LLC and Sammy Garrard, D.J. Ref. No. 90-5-1-1-11281/1. Comments may be submitted by either email or by mail:

To submit comments: | Send them to:
By email | pubcomment-ees.enrd@usdoj.gov.
By mail | Acting Assistant Attorney General, U.S. DOJ-ENRD, P.O. Box 7611, Washington, D.C. 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $7.50 (25 cents per page reproduction cost) payable to the United States Treasury.

Thomas Carroll,
Assistant Section Chief, Environmental Enforcement Section, Environment and Natural Resources Division.

[FR Doc. 2018-09842 Filed 5-8-18; 8:45 am]

BILLING CODE 4410-15-P